DEPARTMENT OF HOUSING AND URBAN DEVELOPMENT

24 CFR Part 599

[Docket No. FR-4663-C-05]

RIN 2506-AC09

Designation of Forty Renewal Communities; Technical Correction

AGENCY: Office of the Assistant Secretary for Community Planning and Development, HUD.

ACTION: Interim rule; technical correction.

SUMMARY: On July 9, 2001, HUD published an interim rule to govern the designation of Renewal Communities nominated by States and local governments. This document corrects an error in the interim rule by removing arson from the list of offenses counted in determining the Crime Index and the Local Crime Index.

DATES: Effective Date: August 8, 2001.

FOR FURTHER INFORMATION CONTACT: John Haines, Renewal Community Initiative, Office of Community Planning and Development, Department of Housing and Urban Development, 451 Seventh Street, SW., Room 7130, Washington, DC 20410, (202) 708-6339. Persons with hearing or speech disabilities may call (800) 877-8339 (the Federal Information Relay Service-TTY).

SUPPLEMENTARY INFORMATION: On July 9, 2001 (66 FR 35850), HUD published an interim rule for the designation of Renewal Communities (RCs) and Round III urban Empowerment Zones (EZs). The preamble, at 66 FR 35853, cited the Crime Index (CI) of the FBI's Uniform Crime Reporting (UCR) as including the offense of arson. The rule, in § 599.107(a)(3) at 66 FR 35858, includes arson in the list of offenses that must be included when determining the Local Crime Index (LCI) in a nominated area for purposes of comparing the LCI to the CI.

Although the offense of arson is included as part of the UCR, it is not included in the CI determination because the reporting for arson is not as consistent as for other offenses. The references to arson in the interim rule are, therefore, being removed. In addition, a correction to make conforming changes to the August 7, 2001 (66 FR 41432) Notice Inviting Applications for Designation of Forty Renewal Communities is published elsewhere in this issue of the Federal Register.

Accordingly, FR Doc. 01-17011, Designation of Round III Urban Empowerment Zones and Renewal Communities, (FR-4663-I-01), published in the Federal Register on July 9, 2001 (66 FR 35850), is corrected as follows:

1. On page 35853, second column, the second complete sentence is revised to read as follows: “The offenses included are the violent crimes of murder and nonnegligent manslaughter, forcible rape, robbery, and aggravated assault, and the property crimes of burglary, larceny-theft, and motor vehicle theft.”

PART 599—RENEWAL COMMUNITIES

§ 599.107 [Corrected]

2. On page 35858, second column, the last complete sentence of § 599.107(a)(3) is revised to read as follows: “The offenses used in determining the LCI are the violent crimes of murder and nonnegligent manslaughter, forcible rape, robbery, and aggravated assault, and the property crimes of burglary, larceny-theft, and motor vehicle theft.”

Dated: October 10, 2001.
Roy A. Bernardi,
Assistant Secretary for Community Planning and Development.

[FR Doc. 01-26023 Filed 10-16-01; 8:45 am]

BILLING CODE 4210-29-P